DEPARTMENT OF COMMERCE

Foreign-Trade Zones Board

[B-47-2015]

Authorization of Production Activity; Foreign-Trade Zone 46; Festo Corporation (Pneumatic/Electric Cylinders and Drives, Valve Manifolds, Electronic Control Systems); Mason, Ohio

On July 22, 2015, Festo Corporation, an operator of FTZ 46, submitted a notification of proposed production activity to the Foreign-Trade Zones (FTZ) Board for its facility in Mason, Ohio.

The notification was processed in accordance with the regulations of the FTZ Board (15 CFR part 400), including notice in the Federal Register inviting public comment (80 FR 47896, August 10, 2015). The FTZ Board has determined that no further review of the activity is warranted at this time. The production activity described in the notification is authorized, subject to the FTZ Act and the FTZ Board's regulations, including Section 400.14, and further subject to a restriction requiring that foreign status textile-based felt (classified within HTSUS Subheading 5602.21) be admitted to the zone in privileged foreign status (19 CFR 146.41).

Dated: November 23, 2015.
Andrew McGilvray,
Executive Secretary.

[FR Doc. 2015-30711 Filed 12-3-15; 8:45 am]

BILLING CODE 3510-DS-P